DEPARTMENT OF THE INTERIOR

Bureau of Land Management

[CA-160-1430-ET; CACA 7820]

Public Land Order No. 7435; Revocation of Public Land Order No. 460; California; Correction

AGENCY: Bureau of Land Management, Interior.

ACTION: Correction.

SUMMARY: In Federal Register document 00-7213 beginning on page 15648 in the issue of Thursday, March 23, 2000, make the following correction:

On page 15648 in the second column, the section and subdivision which reads “Sec. 14, N½W¼” is hereby corrected to read “Sec. 14, N½NW¼”.

Dated: March 29, 2000.
Duane Marti,
Acting Chief, Branch of Lands (CA-931).

[FR Doc. 00-8509 Filed 4-5-00; 8:45 am]

BILLING CODE 4310-40-P